DEPARTMENT OF LABOR

Employment and Training Administration

[TA-W-40,343]

Specialty Minerals (Michigan), Inc., Plainwell, MI; Notice of Negative Determination Regarding Application for Reconsideration

By application dated May 13, 2002, the company requested administrative reconsideration of the Department's negative determination regarding eligibility to apply for Trade Adjustment Assistance (TAA), applicable to workers and former workers of the subject firm. The denial notice was signed on April 24, 2002, and published in the Federal Register on May 2, 2002 (67 FR 22112).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The petition for the workers of Specialty Minerals (Michigan), Inc., Plainwell, Michigan was denied because the “contributed importantly” group eligibility requirement of Section 222(3) of the Trade Act of 1974, as amended; was not met. The denial was based on evidence indicating that customers of the subject firm do not import precipitated calcium carbonate. The subject firm did not import precipitated calcium carbonate.

The company feels that the eligibility criteria were met based on the fact that the subject plant existed to supply the key raw material (precipitated calcium carbonate) to the major customer. The company further states that once the customer closed down, due to imported paper, the subject plant no longer had a customer and as a result was directly impacted by imported paper closing it's primary customer.

The imports of any other product by the company or customer is not relevant to this petition that was filed on behalf of worker(s) producing precipitated calcium carbonate. The products imported must be “like or directly competitive” with what the subject plant produces to meet the eligibility requirements of section 222(3) of the Trade Act of 1974, as amended.

Conclusion

After review of the application and investigative findings, I conclude that there has been no error or misinterpretation of the law or of the facts which would justify reconsideration of the Department of Labor's prior decision. Accordingly, the application is denied.

Signed at Washington, DC this 14th day of June 2002.
Edward A. Tomchick,
Director, Division of Trade Adjustment Assistance.

[FR Doc. 02-18415 Filed 7-19-02; 8:45 am]

BILLING CODE 4510-30-P